FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 962. Interested parties may submit comments on an agreement to the Secretary, Federal Maritime Commission, Washington, DC 20573, within 10 days of the date this notice appears in the Federal Register.

Agreement No.: 203-011426-029.

Title: West Coast of South America Discussion Agreement.

Parties:

A.P. Moller-Maersk Sealand

APL Co. PTE Ltd.

Colombus Line

Compania Chilena de Navegacion Interoceania, S.A.

Compania Sud Americana de Vapores, S.A.

Crowley American Transport, Inc.

Seaboard Marine Ltd.

Mediterranean Shipping Company, S.A.

NYK/NOS Joint Service

P&O Nedlloyd B.V.

Seaboard Marine, Ltd.

Ecuadorian Line

South American Independent Lines Association and its members: Interocean Lines, Inc., Trinity Shipping Line, S.A.

Synopsis: The proposed amendment clarifies that authority to discuss service contract rates extends to joint and/or individual service contracts. The amendment also clarifies that the parties may communicate with one another indirectly as well as directly.

Agreement No.: 203-011637-002.

Title: MLL/TMG/Columbus/Maruba Cooperative Working Agreement.

Parties:

Mexican Line Limited

Transportacion Maritima Grancolombiana, S.A. (“TMG”)

Columbus Line

Maruba S.C.A.

Synopsis: The proposed amendment would expand the geographic scope of the Agreement to include Japan, the People's Republic of China, Hong Kong, Taiwan, and Korea. It would also delete TMG as a party to the Agreement and change the Agreement's name to the “Ampac Cooperative Working Agreement.” In addition, the amendment would modify the Agreement to reflect changes to the parties' services and space allocations necessary to accommodate their expanded trade area and would make other clarifying modifications to their service contract and withdrawal provisions. The parties have requested expedited review.

Agreement No.: 217-011706.

Title: Kent Line/Seaboard Space Charter and Sailing Agreement.

Parties:

Kent Line International Limited

Seaboard Marine Ltd.

Synopsis: The proposed Agreement would permit the parties to charter space to one another and to coordinate their vessel service in the trade between United States Atlantic and Puerto Rican ports and ports in Antigua, Barbados, Trinidad, the Dominican Republic, Jamaica, Venezuela and on the Atlantic Coast of Canada. The parties have requested expedited review.

Agreement No.: 203-011707.

Title: Gulf/South America Discussion Agreement.

Parties:

Associated Transport Line, L.L.C.

Industrial Maritime Carriers (U.S.A.) Inc., operating as Intermarine.

Synopsis: The agreement permits the parties to discuss and voluntarily agree on rates and related matters in the trade between the U.S. Gulf and Colombia, Ecuador, Peru, Chile, Argentina, Brazil, Venezuela and Trinidad.

Dated: April 28, 2000.
By Order of the Federal Maritime Commission.
Bryant L. VanBrakle,
Secretary.

[FR Doc. 00-11069 Filed 5-3-00; 8:45 am]

BILLING CODE 6730-01-P